DEPARTMENT OF TRANSPORTATION

Federal Motor Carrier Safety Administration

49 CFR Part 375

[Docket No. FMCSA-2011-0313]

RIN 2126-AB41

Transportation of Household Goods in Interstate Commerce; Consumer Protection Regulations: Household Goods Motor Carrier Record Retention Requirements

AGENCY: Federal Motor Carrier Safety Administration (FMCSA), DOT.

ACTION: Direct final rule; confirmation of effective date.

SUMMARY: FMCSA confirms the effective date for its July 16, 2012, direct final rule concerning the period during which household goods (HHG) motor carriers must retain documentation of an individual shipper's waiver of receipt of printed copies of consumer protection materials. The direct final rule harmonized the retention period with other document retention requirements applicable to HHG motor carriers. FMCSA also amended the regulations to clarify that a HHG motor carrier is not required to retain waiver documentation from any individual shippers for whom the carrier does not actually provide services. The Agency did not receive any comments in response to the direct final rule and confirms the November 13, 2012, effective date of the rule.

DATES: The effective date for the direct final rule published in the Federal Register on July 16, 2012 (77 FR 41699), is confirmed as November 13, 2012.

ADDRESSES: The docket for this rulemaking (FMCSA-2011-0313) is available for inspection at http://www.regulations.gov/#!docketDetail;D=FMCSA-2011-0313. If you do not have access to the Internet, you may also view the docket by visiting the Docket Management Facility in Room W12-140 on the ground floor of the Department of Transportation West Building, 1200 New Jersey Avenue SE., Washington, DC 20590, between 9 a.m. and 5 p.m. e.t., Monday through Friday, except Federal holidays.

FOR FURTHER INFORMATION CONTACT: Mr. Brodie Mack, FMCSA, Household Goods Team Leader, Commercial Enforcement and Investigations Division at (202) 385-2400 or by email at brodie.mack@dot.gov.

SUPPLEMENTARY INFORMATION: On July 16, 2012, FMCSA published a direct final rule amending its regulations at 49 CFR part 375. The rule reduced the retention period in 49 CFR 375.213(e)(3) from three years to one year for signed receipts documenting an individual shipper's waiver of physical receipt of the consumer protection publications “Your Rights and Responsibilities When You Move,” and “Ready to Move?—Tips for a Successful Interstate Move.” The change harmonized this requirement with other requirements in part 375 that require HHG motor carriers to retain shipping documents for only one year. The rule also clarified a HHG motor carrier that obtains a signed waiver from a shipper is required to comply with the retention requirements in § 375.213(e)(3) only if the carrier actually provides moving services to the shipper.

FMCSA used the Agency's direct final rule procedures (75 FR 29915, May 28, 2010) because it was a routine and noncontroversial amendment, and the Agency did not expect any adverse comments. The direct final rule advised the public that unless a written adverse comment, or a written notice of intent to submit such an adverse comment, was received by August 15, 2012, the Agency would provide notice confirming the effective date. Because the Agency did not receive any comments to the docket by August 15, 2012, the direct final rule will become effective November 13, 2012.

Issued on: August 20, 2012.
Larry W. Minor,
Associate Administrator for Policy.

[FR Doc. 2012-21031 Filed 8-24-12; 8:45 am]

BILLING CODE 4910-EX-P